DEPARTMENT OF ENERGY

Federal Energy Regulatory Commission

[Docket No. CP01-358-000]

NUI Corporation/NUI Utilities, Inc. C&T Enterprises Inc./Valley Energy, Inc.; Notice of Application

May 10, 2001.

Take notice that on May 4, 2001, NUI Corporation/NUI Utilities, Inc., together referred to as NUI, One Elizabethtown Plaza, P.O. Box 3175, Union, New Jersey 07083-1975, and C&T Enterprises, Inc./Valley Energy, Inc., together referred to as C&T, Suite 310, 208 North Third Street, P.O. Box 12090, Harrisburg, Pennsylvania 17108-2090, in Docket No. CP01-358-000 filed an application pursuant to Section 7(f) of the Natural Gas Act (NGA) for an order granting to C&T the same Section 7(f) service area determination held by NUI in connection with the operation of two local gas distribution systems, the Waverly Division in the State of New York, and the Valley Cities Division located in the Commonwealth of Pennsylvania, in anticipation of the proposed sale by NUI and the purchase by C&T of the assets of the two distribution systems, all as more fully set forth in the application which is on file with the Commission and open to public inspection. This filing may be viewed on the web at http://www.ferc.fed.us/online/rims.htm (call 202-208-2222 for assistance).

NUI and C&T further request that the Commission (i) to the extent necessary, authorize NUI to terminate, relinquish, and/or transfer its NGA Section 7(f) service area determination upon its sale of the two systems to C&T; (ii) waive the regulatory requirements ordinarily applicable to a natural gas company under the NGA and the Natural Gas Policy Act of 1978 (NGPA), including but not limited to reporting and accounting requirements and charges, in consideration of the New York and Pennsylvania state regulatory requirements to which C&T will be subject upon its acquisition of the two local distribution systems; (iii) declare that C&T qualifies as a local distribution company (LDC) in the service area to be determined for purposes of Section 311 of the NGPA; and (iv) grant such other relief as it may be deem appropriate.

Any questions regarding the application should be directed to Mary Patricia Keefe, at (908) 351-7373 or Kenneth Zielois at (717) 234-1250.

There are two ways to become involved in the Commission's review of this project. First, any person wishing to obtain legal status by becoming a party to the proceedings for this project should, on or before May 31, 2001, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Also, comments protests, and interventions may be filed electronically via the internet in lieu of paper. See, 18 CFR 385.2001(a)(1)(iii) and the instructions on the Commission's web site at http://www.ferc.ded.us/efi/doorbell.htm.

If the Commission decides to set the application for a formal hearing before an Administrative Law Judge, the Commission will issue another notice describing that process. At the end of the Commission's review process, a final Commission order approving or denying a certificate will be issued.

David P. Boergers,
Secretary.

[FR Doc. 01-12284 Filed 5-15-01; 8:45 am]

BILLING CODE 6717-01-M